DEPARTMENT OF TRANSPORTATION

Federal Highway Administration

Environmental Impact Statement: Ada County, ID

AGENCY: Federal Highway Administration (FHWA), DOT.

ACTION: Notice of intent to prepare an environmental impact statement.

SUMMARY: The FHWA is issuing this notice to advise the public that an Environmental Impact Statement (EIS) will be prepared for a proposed highway project in Ada County, Idaho.

FOR FURTHER INFORMATION CONTACT: Russell Jorgenson, Idaho Division Field Operations Engineer, Federal Highway Administration, 3050 Lakeharbor Lane, Suite 126, Boise, Idaho 83703, telephone: (208) 334-9180, Ext. 122; Greg Vitley, Senior Environmental Planner, Idaho Transportation Department, District 3, P.O. Box 8028, Boise, ID 83707, telephone (208) 334-8300; or Sally Goodell, Three Cities River Crossing Coordinator, Ada County Highway District, 318 East 37th Street, Garden City, Idaho 83714, telephone (208) 387-6100.

SUPPLEMENTARY INFORMATION: The Federal Highway Administration, in cooperation with the Ada County Highway District and the Idaho Transportation Department, will prepare an EIS that identifies an alignment for a transportation corridor that will connect State Highway 44/55 on the north with US 20/26 on the south. The proposed highway alternatives vary from approximately 1.5 to 3.0 miles in length and will provide 4 to 6 travel lanes. This alignment includes a new bridge across the Boise River. The study area is located in the northwestern part of the Boise Metropolitan Area, and borders or passes through portions of the cities of Boise, Eagle and Garden City as well as Ada County.

This improvement is considered necessary to relieve existing and projected traffic congestion in the study area. Alternatives under consideration include, (1) taking no action, (2) road alignment alternatives for connecting State Highway 44/55 and US Highway 20/26 and, (3) alternative bridge types for the crossing of the Boise River. The termini for the project are State Highway 44/55 on the north and US Highway 20/26 to the south.

Letters describing the proposed action and soliciting comments will be sent to the appropriate Federal, State and local agencies and citizens who have previously expressed interest in this proposed project. Scoping will begin with the publication of the Notice of Intent. As part of the scoping process, public information meetings will be held in addition to public hearings. Public notice will be given of the time and place of any public information meetings and public hearings. The draft EIS will be made available in electronic format for public and agency review and comment and hard copies will be available in public places to be determined and published. Accommodations for persons with special needs for reviewing the EIS will be available by contacting one of the contact sources listed above.

To ensure that the full range of issues related to this proposed action are addressed and all significant issues are identified, comments and suggestions are invited from all interested parties.

Comments or questions concerning this proposed action and the EIS should be directed to FHWA or the Ada County Highway District at the addresses provided above.

Authority: 23 U.S.C. 315; 23 CFR 771.123; 49 CFR 1.48.

Issued on: January 6, 2004.
Stephen A. Moreno,
Division Administrator, Federal Highway Administration, Boise, Idaho.

[FR Doc. 04-632 Filed 1-12-04; 8:45 am]

BILLING CODE 4910-22-M